DEPARTMENT OF TRANSPORTATION

Federal Highway Administration

Notice To Rescind the Notice of Intent To Develop the Environmental Impact Statement: Kings County, NY

AGENCY: Federal Highway Administration (FHWA, United States Department of Transportation (DOT).

ACTION: Notice to rescind the Notice of Intent.

SUMMARY: The FHWA is issuing this rescinded notice to advise the public that the FHWA will not be preparing an Environmental Impact Statement (EIS) for the proposed project involving approximately 3.8 miles of the Brooklyn-Queens Expressway (BQE), Interstate 278 (I-278) in Kings County, New York (Project Identification Number X729.94). This segment of the BQE referred to as the Gowanus Expressway, extends from Sixth Avenue to the Brooklyn Battery Tunnel and contains 23 structures with a total deck area of approximately 2,000,000 square feet. A Notice of Intent to prepare an EIS was published in the Federal Register in November 1996.

FOR FURTHER INFORMATION CONTACT: Jonathan McDade, Division Administrator, Federal Highway Administration, New York Division, Leo W. O'Brien Federal Building, 7th Floor, Clinton Avenue and North Pearl Street, Albany, New York 12207, Telephone: (518) 431-4127; or

Mr. Phillip Eng, P.E., Regional Director, New York State Department of Transportation, Hunters Point Plaza 47-40 21st Street, Long Island City, New York 11101, Telephone: (718) 482-4526.

SUPPLEMENTARY INFORMATION: The FHWA, in cooperation with the New York State Department of Transportation (NYSDOT) previously intended to prepare an EIS to evaluate alternatives regarding the rehabilitation or reconstruction of the Gowanus Expressway (BQE I-278) in Kings County, New York, from Sixth Avenue to the Brooklyn Battery Tunnel.

The purpose of the original Project was to address various geometric, operational, and structural deficiencies associated with the structures.

The Notice of Intent to prepare an EIS was published in the Federal Register in November 1996 following completion of an Environmental Assessment. At that time the rehabilitation alternatives had cost estimates in the range of $700 million. Subsequently, in response to public comments, a tunnel alternative was added.

During preliminary design, the cost estimates increased to approximately $2 billion for the rehabilitation alternatives while the cost estimate for the tunnel alternative was determined to be greater than $15 billion.

The economic downturn has affected all areas of government and Transportation is not an exception; recent projections show insufficient funds to meet our infrastructure needs. In response to this, NYSDOT is reevaluating its program with emphasis on preserving our existing assets to ensure a continuous system wide operations and safety of its facilities. NYSDOT proposes to terminate the EIS for this project because: (1) Structures at other locations have pressing needs which must also be addressed and (2) the cost of the alternatives being evaluated do not fall within NYSDOT's funding constraints.

To assure the continued safe operation of the Gowanus Expressway the structural deficiencies will be addressed in the intermediate term through a series of projects.

Issued on November 16, 2011.
Jonathan D. McDade,
New York Division Administrator, Federal Highway Administration.

[FR Doc. 2011-30431 Filed 11-28-11; 8:45 am]

BILLING CODE 4910-22-P